DEPARTMENT OF COMMERCE

Foreign-Trade Zones Board

[Docket 30-2011]

Foreign-Trade Zone 141—Rochester, NY; Application for Manufacturing Authority; Firth Rixson, Inc. d/b/a Firth Rixson Monroe; Extension of Comment Period on Revised Preliminary Recommendation

The comment period provided to allow interested parties to respond to the examiner's revised preliminary recommendation issued to the applicant in December 2012 (see, 78 FR 2657-2658, 1-14-2013) is being extended to March 13, 2013, to allow interested parties additional time in which to comment. Rebuttal comments may be submitted during the subsequent 15-day period, until March 28, 2013. Submissions shall be addressed to the Board's Executive Secretary at the following address: Office of the Executive Secretary, Room 21013, U.S. Department of Commerce, 1401 Constitution Avenue NW., Washington, DC 20230-0002.

FOR FURTHER INFORMATION CONTACT: Pierre Duy at Pierre.Duy@trade.gov or (202) 482-1378.

Dated: February 1, 2013.
Andrew McGilvray,
Executive Secretary.

[FR Doc. 2013-02824 Filed 2-6-13; 8:45 am]

BILLING CODE P